DEPARTMENT OF HEALTH AND HUMAN SERVICES

Centers for Disease Control and Prevention

CDC/HRSA Advisory Committee on HIV, Viral Hepatitis and STD Prevention and Treatment

In accordance with section 10(a)(2) of the Federal Advisory Committee Act (Pub. L. 92-463), the Centers for Disease Control and Prevention (CDC) and the Health Resources and Services Administration (HRSA) announce the following meeting of the aforementioned committee:

Times and Dates:

8:00 a.m.-5:45 p.m., December 11, 2012

8:00 a.m.-2:30 p.m., December 12, 2012

Place: The Hilton Rockville, 1750 Rockville Pike, Rockville, Maryland 20852, Telephone: (301) 468-1100.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include: (1) Treatment Cascade—Linkage to Care/Retention in Care—Treatment as Prevention; (2) Ryan White HIV/AIDS Program Client Level Data Update; (3) Viral Hepatitis Action Plan and Implementation Update; (4) Update on Translation of International HIV/AIDS Work Domestically; and (5) CHAC Workgroups Update.

Agenda items are subject to change as priorities dictate.

Contact Person for More Information: Margie Scott-Cseh, National Center for HIV/AIDS, Viral Hepatitis, STD, and TB Prevention, CDC, 1600 Clifton Road NE., Mailstop E-07, Atlanta, Georgia 30333, Telephone: (404) 639-8317.

The Director, Management Analysis and Services Office, has been delegated the authority to sign Federal Register Notices pertaining to announcements of meetings and other committee management activities, for both the CDC and the Agency for Toxic Substances and Disease Registry.

Dated: October 22, 2012.
Elaine L. Baker,
Director, Management Analysis and Services Office, Centers for Disease Control and Prevention.

[FR Doc. 2012-26478 Filed 11-2-12; 8:45 am]

BILLING CODE 4163-18-P